DEPARTMENT OF THE INTERIOR

Bureau of Ocean Energy Management

[Docket No. BOEM-2015-0118; MMAA104000]

Gulf of Mexico, Outer Continental Shelf (OCS), Eastern Planning Area (EPA) Oil and Gas Lease Sale 226

AGENCY: Bureau of Ocean Energy Management (BOEM), Interior.

ACTION: Notice of availability of a Record of Decision.

SUMMARY: BOEM is announcing the availability of a Record of Decision for proposed oil and gas EPA Lease Sale 226. This Record of Decision identifies the Bureau's selected alternative for proposed EPA Lease Sale 226, which is analyzed in the Gulf of Mexico OCS Oil and Gas Lease Sales: 2016 and 2017; Central Planning Area Lease Sales 241 and 247; Eastern Planning Area Lease Sale 226; Final Supplemental Environmental Impact Statement (CPA 241/EPA 226 Supplemental EIS). The Record of Decision and associated information are available on the agency Web site at http://www.boem.gov/nepaprocess/.

FOR FURTHER INFORMATION CONTACT: For more information on the Record of Decision, you may contact Mr. Gary D. Goeke, Bureau of Ocean Energy Management, Gulf of Mexico OCS Region, 1201 Elmwood Park Boulevard (GM 623E), New Orleans, Louisiana 70123-2394. You may also contact Mr. Goeke by telephone at 504-736-3233.

SUPPLEMENTARY INFORMATION: In the CPA 241/EPA 226 Supplemental EIS, BOEM evaluated the two alternatives that are summarized below with regard to proposed EPA Lease Sale 226:

Alternative A—The Proposed Action: This is BOEM's preferred alternative. This alternative would offer for lease all unleased blocks within the proposed EPA lease sale area for oil and gas operations.

All unleased blocks in the EPA that BOEM will offer for leasing in proposed EPA Lease Sale 226 are listed in the document “List of Blocks Available for Leasing,” which is included in the Final Notice of Sale for EPA Lease Sale 226. The proposed EPA lease sale area covers approximately 657,905 acres (ac) and includes those blocks previously included in EPA Lease Sale 225. The area is south of eastern Alabama and western Florida; the nearest point of land is 125 miles (201 kilometers) northwest in Louisiana. As of October 2015, approximately 595,475 ac of the proposed EPA lease sale area are available for lease. The estimated amount of natural resources projected to be developed as a result of proposed EPA Lease Sale 226 is 0-0.071 billion barrels of oil and 0-0.162 trillion cubic feet of gas.

Alternative B—No Action: This alternative is the cancellation of proposed EPA Lease Sale 226 and is identified as the environmentally preferred alternative.

Lease Stipulations—The CPA 241/EPA 226 Supplemental EIS describes all lease stipulations, which are included in the Final Notice of Sale Package. The four lease stipulations for proposed EPA Lease Sale 226 are the Protected Species Stipulation, the Military Areas Stipulation, the Evacuation Stipulation, and the Coordination Stipulation. The stipulations will be added as lease terms where applicable and will therefore be enforceable as part of the lease. Appendix A of the CPA 241/EPA 226 Supplemental EIS provides a list and description of standard postlease mitigating measures that may be required by BOEM or the Bureau of Safety and Environmental Enforcement as a result of plan and permit review processes for the Gulf of Mexico OCS Region.

After careful consideration, BOEM has selected the proposed action, which is identified as BOEM's preferred alternative (Alternative A) in the CPA 241/EPA 226 Supplemental EIS. BOEM's selection of the preferred alternative reflects an orderly resource development with protection of the human, marine, and coastal environments, while also ensuring that the public receives an equitable return for these resources and that free-market competition is maintained.

Authority: This NOA of a Record of Decision is published pursuant to regulations (40 CFR part 1503) implementing the provisions of the National Environmental Policy Act of 1969, as amended (42 U.S.C. 4321 et seq.).

Dated: February 10, 2016.
Abigail Ross Hopper,
Director, Bureau of Ocean Energy Management.

[FR Doc. 2016-03277 Filed 2-18-16; 8:45 am]

BILLING CODE 4310-MR-P